DEPARTMENT OF JUSTICE

Bureau of Justice Statistics

[OJP (BJS)-1307]

Hate Crime Statistics Data Collection in Selected Police and Sheriffs' Departments

AGENCY: Office of Justice Programs, Bureau of Justice Statistics, Justice.

ACTION: Notice of solicitation for award of cooperative agreement.

SUMMARY: The purpose of this notice is to announce a public solicitation for services related to understanding why police and sheriff's departments do not report hate crimes to the FBI that are known to officers in their jurisdiction.

DATES: Proposals must arrive at the Bureau of Justice Statistics (BJS) on or before 5 p.m. ET, Sunday, December 31, 2000, or be postmarked on or before December 31, 2000.

ADDRESSES: Proposals should be mailed to: Application Coordinator, Bureau of Justice Statistics, 810 Seventh St. NW., Washington, DC 20531; (202) 616-3497.

FOR FURTHER INFORMATION CONTACT: Charles R. Kindermann, Ph.D., Senior Statistician, Bureau of Justice Statistics, (202) 616-3489 or Carol Kaplan, Chief, National Criminal History Improvement Program (202) 307-0759.

SUPPLEMENTARY INFORMATION:

Background

The Hate Crime Statistics Act, reauthorized in June 1996, mandates that the Attorney General collect statistics and publish an annual report on hate crimes. During hearing testimony and in subsequent letters, members of Congress expressed an interest in a study that will facilitate better participation by police agencies. BJS, consistent with its role as the statistical arm of the Justice Department and its longstanding interest in hate crime statistics, developed this solicitation to learn more about the impediments to local jurisdictions' participation in the collection of hate crime statistics and transmission of the statistics to the FBI for compilation at the national level.

BJS funded a project that resulted in the report Improving the Quality and Accuracy of Bias Crime Statistics Nationally: An Assessment of the First Ten Years of Bias Crime Data Collection. The project included a review of national hate crime trends, a summary of results from a national law enforcement survey regarding officer attitudes about hate crime, and several other sources. The compilation of these data sources gives key insight into how hate crime reporting can be improved and how hate crime data should be interpreted. Electronic copies of the full report and an executive summary can be found at <www.dac.neu.edu/cj/>.

A survey of 2,657 law enforcement agencies was conducted to document impressions from law enforcement departments about the factors which impede or encourage accurate hate crime reporting. The findings from the report are as follows:

• There are serious disparities between what officers believed about the prevalence of bias crime and their agencies' official hate crime statistics.

• One of the major reasons cited for the disparity involves the break down in the two-step process of a local agency reporting to a state agency, which then compiles the hate crime reports. Many respondents felt that the indication of bias was occasionally lost within the departmental bureaucracy or process of transmitting data.

• Although it has been recommended by the International Association of Chiefs of Police, as well as advocacy groups, that police agencies develop and approve a formal policy for dealing with hate crime incidents, still only a minority of police agencies from across the country state that they had an official policy regarding hate crime.

The impetus for this solicitation is the report's recommendation that “the data indicate that in some number of cases an information disconnect occurs between the investigating officer and UCR reporting. Many officers stated that they knew of hate crimes that occurred in their jurisdiction but were not reflected in the official report. It is possible that officers note bias motivation in incident report narratives, but the information from such narrative is never documented into the UCR records. A more detailed analysis of the breakdown between hate crimes that are investigated locally and those that are reported nationally should be undertaken.”

There are a number of possible explanations why an agency's numbers reported to the FBI might not reflect hate crimes that are known to officers on the street. Among the possibilities are these:

• The definition of hate crime provided by the FBI may be inconsistent with the State's definition (or local definition), and officers follow their state law in classifying events as incidents of hate crime. If this hypothesis is true, it is particularly troublesome in states that do not have any hate crime statute.

• The incident forms used by some departments contain so many information elements (checks/boxes/narrative) that a specific item indicating bias is not checked off although other information on the form clearly indicates that the offense was bias motivated.

• During the review process (post-incident report), a decision is made that the incident was bias motivated. Yet the crime report as sent to the FBI is not categorized as a hate crime. For example, the original officer doesn't put an indication of hate crime, the responding detective identifies it as a hate crime, but the crime report as entered into UCR data remains the same as the first officer noted.

• There may be very little revising of the data sent to the FBI regardless of changes in determination and circumstance. The reversal of a decision that an incident is a hate crime (e.g., by a community review group) may also not be reflected in the database.

• Because the vast majority of the crime report forms do not have the “bias motivated” box checked off, it is a natural instinct to skip it.

• The transfer of information and data forms from local, state, and federal agencies creates additional “slippage” points where the “bias crime” indicator may be omitted in the data files.

The work to be carried out under this solicitation will be closely coordinated with the FBI, which assembles information provided by state and local agencies and publishes national hate crime statistics.

Objectives

This solicitation is being issued to address the following recommendation: “The study identified several problem areas in the reporting process where bias crime information may be overlooked or misclassified. Further research should look in more depth at the areas of disconnect to better improve the quality of the data.”

Up to $150,000 will be made available for this project.

The organization that is awarded the grant will select specific law enforcement agencies as hosts for the study, and must include both agencies believed to have “good” hate crime reporting, and agencies that have not reported hate crime statistics at all to the FBI or are believed to report only a small fraction of the hate crimes that do occur. The purpose of selecting host agencies will be to assist them in improving their hate crime reporting and also to develop recommendations for improving hate crime reporting by law enforcement agencies nationwide. The law enforcement agencies must agree in writing to participate in the study and will become partners with the FBI and BJS to address and recommend solutions to the impediments to accurate hate crime reporting. A steering committee will be appointed that will direct the introduction of new procedures and practices to improve the reporting of hate crimes in law enforcement agencies that agree to participate in the study.

Funding provided under this solicitation will support a data collection program which will follow the sequence of events from a crime report which is known or presumed to be a hate crime by the officer completing the report through the crime reporting procedures to ascertain whether the crimes were reported to the FBI as hate crimes, and if not, whether the failure to report accurately reflects the nature of the event or is the result of gaps in the transmission of information to the FBI's UCR data files. The project, in addition to helping the participating departments improve their practices, will result in recommendations for other agencies' practices and a more detailed statistical analysis of hate crimes that are investigated locally as compared to those that are reported nationally to the FBI.

Type of Assistance

Assistance will be made available under a cooperative agreement

Statutory Authority

The cooperative agreement to be awarded pursuant to this solicitation will be funded by the Bureau of Justice Statistics consistent with its mandate as set forth in 42 U.S.C. 3732.

Eligibility Requirements

Both profit making and nonprofit organizations may apply for funds. Consistent with OJP fiscal requirements, however, no fees may be charged against the project by profit-making organizations.

Scope of Work

The recipient of funds will perform the following tasks in pursuit of the objectives stated above:

1. Develop a detailed timetable for each task involved in the project. After the BJS grant monitor has agreed to the timetable, all work must be completed as scheduled.

2. Collect data about hate crime incidents in the participating agencies' jurisdictions and prepare a statistical summary showing the status of “bias crime indicators” in each of the stages through which the data are transmitted until included or not included in the FBI's hate crimes report.

3. Develop recommendations for improving hate crime reporting by law enforcement agencies, both those with “good” hate crime reporting practices and those who have not reported hate crime statistics to the FBI, to develop recommendations for improving hate crime reporting by police departments.

4. Prepare a final report summarizing the results in a way that will help BJS, the FBI, and law enforcement agencies improve hate crime reporting.

5. Archive the data that are collected in the study.

Award Procedures

Proposals should describe in appropriate detail the procedures to be undertaken in furtherance of each of the activities described under Scope of Work. Information on staffing levels and qualifications should be included for each task and descriptions of experience relevant to the project should be included. Resumes of the proposed project director and key staff should be enclosed with the proposal.

Applications will be reviewed competitively by a panel comprised of members selected by BJS. The panel will make recommendations to the Director, BJS. Final authority to enter into a cooperative agreement is reserved for the Director, BJS, or his designee.

Applications will be evaluated on the overall extent to which they respond to the priorities and technical complexities of the scope of work, conform to standards of high data collection quality, and appear to be fiscally feasible and efficient. Applicants will be evaluated on the basis of:

1. Familiarity with both the full report and executive summary of the report, Improving the Quality and Accuracy of Bias Crime Statistics Nationally: An Assessment of the First Ten Years of Bias Crime Data Collection.

2. Familiarity with FBI annual reports, Crime in the United States and Hate Crime Statistics.

3. Knowledge of issues related to hate crime data collection.

4. Knowledge of issues related to the Uniform Crime Reports (UCR) and the National Incident Based Reporting System (NIBRS).

5. Experience in organizing meetings of Federal, state, or local professionals related to criminal justice issues.

6. Research expertise and experience in data gathering and report writing.

7. Availability of qualified professional and support staff and suitable equipment for project activities.

8. Demonstrated fiscal, management and organizational capability and experience suitable for providing sound data within budget and time constraints.

9. Reasonableness of estimated costs for the total project and for individual cost categories.

Application and Awards Process

An original and five (5) copies of a full proposal must be submitted with SF 424 (Rev. 1988), Application for Federal Assistance, as the cover sheet. Proposals must be accompanied by OJP Form 7150/1, Budget Detail Worksheet; OJP Form 4000/3 (Rev. 1-93), Assurances; OJP Form 4061/6, Certifications Regarding Lobbying; Debarment, Suspension and Other Responsibility Matters; and Drug-Free Workplace Requirements; and OJP Form 7120-1 (Rev. 1-93), Accounting System and Financial Capability Questionnaire (to be submitted by applicants who have not previously received Federal funds from the Office of Justice Programs). If appropriate, applicants must complete and submit Standard Form LLL, Disclosure of Lobbying Activities. All applicants must sign Certified Assurances that they are in compliance with the Federal laws and regulations which prohibit discrimination in any program or activity that receives Federal funds. To obtain appropriate forms, contact Joyce Stanford, BJS Administrative Assistant, at (202) 616-3497 or go to the BJS web site at

<http://www.ojp.usdoj.gov/bjs/apply.htm>.

The application should cover a 1-year period with information provided for completion of the entire project. Proposals must include a program narrative, detailed budget, and budget narrative. The program narrative shall describe activities as stated in the scope of work and address the evaluation criteria. The detailed budget must provide costs including salaries of staff involved in the project and portion of those salaries to be paid from the award; fringe benefits paid to each staff person; travel costs, and supplies required to complete the project. The budget narrative closely follows the content of the detailed budget. The narrative should relate the items budgeted to the project activities and should provide a justification and explanation for the budgeted items. Refer to the aforementioned timetable when developing the program narrative and budget information. This award will not be used to procure equipment for the conduct of the study.

Dated: November 8, 2000.
Jan M. Chaiken,
Director, Bureau of Justice Statistics.

[FR Doc. 00-29090 Filed 11-14-00; 8:45 am]

BILLING CODE 4410-18-P